NATIONAL LABOR RELATIONS BOARD

Revision of Statement of Organization and Functions; Change in Status of Peoria Regional Office (Region 33) to Subregional Office (Subregion 33)

Friday, September 1, 2000.

AGENCY: National Labor Relations Board.

ACTION: Notice of change in status of the Peoria Regional Office to a Subregion of the St. Louis Regional Office.

SUMMARY: The National Labor Relations Board is reorganizing the structure of its office in Peoria, Illinois, to restructure it from a Regional Office to a Subregion of the St. Louis Regional Office and is revising its Statement of Organization and Functions accordingly.

EFFECTIVE DATE: October 3, 2000.

FOR FURTHER INFORMATION CONTACT: John J. Toner, Executive Secretary, 1099 14th Street, NW., Room 11600, Washington, DC 20570. Telephone: (202) 273-1944.

SUPPLEMENTARY INFORMATION: The National Labor Relations Board has decided to restructure the status of the Agency's Peoria Regional Office from a Regional Office to a Subregion of the St. Louis Regional Office. This change is being made because of a reduction in the case intake of the Peoria Regional Office and to provide improved efficiency in case processing. The Peoria Regional Office was headed by a Regional Director, who had full authority for the processing of both unfair labor practice and representation cases. The Peoria Subregional Office will now be headed by an Officer-in-Charge, who will report to the Regional Director in St. Louis. This change will vest the Regional Director in the St. Louis Regional Office with casehandling authority for the geographical area covered by the Peoria Subregional Office.

The geographical area covered by the Peoria Subregion will continue to be the same as that covered by the Peoria Regional Office.

The newly created Subregion will be designated as Subregion 33.

The last list of Regional and Subregional Offices was published at 53 FR 10305-10308, March 30, 1988.

Accordingly, the NLRB revises its Statement of Organization and Functions to reflect the addition of Subregion 33, Peoria, Illinois, and the elimination of Region 33.

Dated: Washington, DC, August 29, 2000.
By direction of the Board. National Labor Relations Board.
Lester A. Heltzer,
Acting Executive Secretary.

[FR Doc. 00-22554 Filed 8-31-00; 8:45 am]

BILLING CODE 7545-01-M